DEPARTMENT OF TRANSPORTATION

Federal Aviation Administration

14 CFR Part 71

[Docket No. FAA-2025-3718; Airspace Docket No. 25-ASW-11]

RIN 2120-AA66

Amendment of Class D Airspace and Establishment of Class E Airspace; Fort Worth, TX

AGENCY: Federal Aviation Administration (FAA), DOT.

ACTION: Notice of proposed rulemaking (NPRM).

SUMMARY: This action proposes to amend the Class D airspace and establish Class E airspace at Fort Worth, TX. The name and geographic coordinates of Fort Worth Meacham International Airport, Fort Worth, TX, and the name of Fort Worth NAS ¹ JRB (Carswell Field), Fort Worth, TX, would also be updated to coincide with the FAA's aeronautical database. The FAA is proposing these actions to accommodate a U.S. Navy request to change the Fort Worth NAS JRB (Carswell Field) Class D airspace from full-time to part-time and establish part-time Class E surface airspace; the associated airspace reviews conducted to accommodate this request; and a biennial airspace review of the Perot Field/Fort Worth Alliance Airport, Fort Worth, TX. These actions will bring the airspace into compliance with FAA orders and support instrument flight rule (IFR) procedures and operations.

¹ NAS in this context means Naval Air Station.

DATES: Comments must be received on or before March 2, 2026.

ADDRESSES: Send comments identified by FAA Docket No. FAA-2025-3718 and Airspace Docket No. 25-ASW-11 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to Docket Operations in Room W12-140 of the West Building Ground Floor at 1200 New Jersey Avenue SE, Washington, DC, between 9 a.m. and 5 p.m., Monday through Friday, except Federal holidays.

FAA Order JO 7400.11K, Airspace Designations and Reporting Points, and subsequent amendments can be viewed online at www.faa.gov/air_traffic/publications/. You may also contact the Rules and Regulations Group, Office of Policy, Federal Aviation Administration, 600 Independence Avenue SW, Washington, DC 20597; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend Class D and establish Class E airspace to support IFR operations at the affected airports.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it received on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov as described in the system of records notice (DOT/ALL-14FDMS), which can be reviewed at www.dot.gov/privacy.

Availability of Rulemaking Documents

An electronic copy of this document may be downloaded through the internet at www.regulations.gov. Recently published rulemaking documents can also be accessed through

the FAA's web page at www.faa.gov/air_traffic/publications/airspace_amendments/.

You may review the public docket containing the proposal, any comments received, and any final disposition in person in the Dockets Operations office (see the ADDRESSES section for the address, phone number, and hours of operations). An informal docket may also be examined during normal business hours at the Federal Aviation Administration, Air Traffic Organization, Central Service Center, Operations Support Group, 10101 Hillwood Parkway, Fort Worth, TX 76177.

Incorporation by Reference

Class D and E airspace is published in paragraphs 5000 and 6002 of FAA Order JO 7400.11, Airspace Designations and Reporting Points, which is incorporated by reference in 14 CFR 71.1 on an annual basis. This document proposes to amend the current version of that order, FAA Order JO 7400.11K, dated August 4, 2025, and effective September 15, 2025. These updates would be published in the next update to FAA Order JO 7400.11. FAA Order JO 7400.11K, which lists Class A, B, C, D, and E airspace areas, air traffic service routes, and reporting points, is publicly available as listed in the ADDRESSES section of this document.

The Proposal

The FAA is proposing an amendment to 14 CFR part 71 that would make several modifications to the Class D and establish Class E airspace in the Fort Worth, TX, area as the result of a U.S. Navy request to change the Fort Worth NAS JRB (Carswell Field), Fort Worth, TX, Class D airspace from full-time to part-time and establish part-time Class E surface airspace; the associated airspace review affected by the request; and a biennial airspace review of Perot Field/Fort Worth Alliance Airport, Fort Worth, TX.

For the Perot Field/Fort Worth Alliance Airport, Fort Worth, TX, Class D airspace, the proposal would: (1) expand the radius from 4.5 miles to 5.4 miles; (2) expand the exclusion area around Stage Coach Hills Airport, Westlake, TX, from 0.5 miles to 1.5 miles; (3) add exclusion areas of 1 mile around Aero Valley Airport, Roanoke, TX, and 1 mile around Hicks Airfield, Fort Worth, TX; and (4) remove the part-time language from the legal description to correct an administrative oversight.

For the Fort Worth Meacham International Airport, Fort Worth, TX, Class D airspace, the proposal would: (1) expand the radius from 4.2 miles to 5 miles; (2) remove the name of the airport from the airspace legal description header to comply with changes to FAA Order JO 7400.2R, Procedures for Handling Airspace Matters; and (3) update the geographic coordinates and the name of the airport from Fort Worth Meacham Airport to Fort Worth Meacham International Airport to coincide with the FAA's aeronautical database.

For the Fort Worth NAS JRB (Carswell Field), Fort Worth, TX, Class D airspace, the proposal would: (1) increase the radius from 4.5 miles to 5.9 miles; (2) add an exclusion area within a 1-mile radius of Flying Oaks Airport; (3) remove the name of the airport from the airspace legal description header to comply with changes to FAA Order JO 7400.2R; (4) update the name of the airport from Fort Worth Naval Air Station JRB (Carswell Field) to Fort Worth NAS JRB (Carswell Field) to coincide with the FAA's aeronautical database; (5) remove the NAS JRB Fort Worth ILS Localizer North, the NAS JRB Fort Worth TACAN, the NAS JRB Fort Worth ILS Localizer South, and the associated extensions from the airspace legal description as they are no longer required; and (6) add part-time language to the legal description.

The proposal would establish a part-time Class E surface area at Fort Worth NAS JRB (Carswell Field) within a 5.9-mile radius of the airport excluding that airspace east of long 097°24′00″ W and excluding that area within a 1-mile radius of Flying Oaks Airport.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1G, “FAA National Environmental Policy Act Implementing Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

Paragraph 5000 Class D Airspace.

* * * * *

ASW TX D Fort Worth, TX [Amended]

Perot Field/Fort Worth Alliance Airport, TX

(Lat. 32°59′25″ N, long 097°19′10″ W)

Aero Valley Airport, TX

(Lat. 33°02′59″ N, long 097°13′56″ W)

Stage Coach Hills Airport, TX

(Lat. 32°58′00″ N, long 097°14′01″ W)

Hicks Field, TX

(Lat. 32°55′52″ N, long 097°24′42″ W)

That airspace extending upward from the surface to but not including 3,000 feet MSL within a 5.4-mile radius of Perot Field/Fort Worth Alliance Airport excluding that airspace within a 1-mile radius of Aero Valley Airport, and excluding that airspace within a 1.5-mile radius of Stage Coach Hills Airport, and excluding that airspace within a 1-mile radius of Hicks Field, and excluding that airspace within the Dallas/Fort Worth, TX, Class B airspace area.

ASW TX D Fort Worth, TX [Amended]

Fort Worth Meacham International Airport, TX

(Lat. 32°49′11″ N, long 097°21′45″ W)

That airspace extending upward from the surface to and including 3,200 feet MSL within a 5-mile radius of Fort Worth Meacham International Airport excluding the portion west of longitude 097°24′01″ W.

ASW TX D Fort Worth, TX [Amended]

Fort Worth NAS JRB (Carswell Field), TX

(Lat. 32°46′09″ N, long 097°26′30″ W)

Flying Oaks Airport, TX

(Lat. 32°49′45″ N, long 097°32′06″ W)

That airspace extending upward from the surface up to and including 3,000 feet MSL within a 5.9-mile radius of Fort Worth NAS JRB (Carswell Field) excluding that airspace east of longitude 097°24′00″ W, and within a 1-mile radius of Flying Oaks Airport. This Class D airspace area is effective during the specific dates and times established in advance by a Notice to Airmen. The effective dates and times will thereafter be continuously published in the Chart Supplement.

* * * * *

6002 Class E Airspace Areas Designated as Surface Areas.

* * * * *

ASW TX E2 Fort Worth, TX [Amended]

Fort Worth NAS JRB (Carswell Field), TX

(Lat. 32°46′09″ N, long 097°26′30″ W)

Flying Oaks Airport, TX

(Lat. 32°49′45″ N, long 097°32′06″ W)

That airspace extending upward from the surface within a 5.9-mile radius of Fort Worth NAS JRB (Carswell Field) excluding that airspace east of longitude 097°24′00″ W, and within a 1-mile radius of Flying Oaks Airport. This Class E airspace area is effective during the specific dates and times established in advance by a Notice to Airmen. The effective dates and times will thereafter be continuously published in the Chart Supplement.

* * * * *

Issued in Fort Worth, Texas, on January 12, 2025.
Courtney E. Johns,
Acting Manager, Operations Support Group, ATO Central Service Center.

[FR Doc. 2026-00604 Filed 1-13-26; 8:45 am]

BILLING CODE 4910-13-P